SMALL BUSINESS ADMINISTRATION

National Women's Business Council; Notice of Public Meeting

AGENCY: National Women's Business Council, Small Business Administration.

ACTION: Notice of open public meeting and listening session.

SUMMARY: Pursuant to section 10(a)(2) of the Federal Advisory Committee Act, the National Women's Business Council (NWBC) announces its second public meeting of Fiscal Year 2020. The 1988 Women's Business Ownership Act established NWBC to serve as an independent source of advice and policy recommendations to the President, Congress, and the Administrator of the U.S. Small Business Administration (SBA) on issues of importance to women entrepreneurs. This meeting will allow the Council to recap its activity and engagement over the course of Fiscal Year 2020. Each of the Council's four subcommittees (Access to Capital & Opportunity, Women in STEM, Rural Women's Entrepreneurship, and Communications) will present their policy recommendations and current projects to the full body for deliberation. The public will have the opportunity to provide feedback.

DATES: The public meeting will be held on Tuesday, September 29, 2020, from 12:00 p.m. to 2:00 p.m. EDT. A subsequent listening session will be held from 2:00 p.m. to 3:00 p.m. EDT.

ADDRESSES: Due to the coronavirus pandemic, this meeting will be held via Microsoft Teams, a web conferencing platform. The access link will be provided to attendees upon registration.

FOR FURTHER INFORMATION CONTACT: For more information, please visit the NWBC website at www.nwbc.gov, email Ashley Judah at ashley.judah@sba.gov, or call 202-205-3850.

SUPPLEMENTARY INFORMATION: The meeting is open to the public; however, advance notice of attendance is requested. To RSVP, please visit the NWBC website at www.nwbc.gov. The “2020 Public Meetings” section will feature a link to register on Eventbrite.

NWBC strongly encourages that public comments and questions be submitted in advance by September 25th. The Eventbrite registration page will include an opportunity to do so, but individuals may also email info@nwbc.gov with subject line—“[Name/Organization] Comment for 9/29/20 Public Meeting.” NWBC staff will read the first five submitted statements during the final 20 minutes of the program.

During the live event, attendees will be in listen-only mode and may submit additional questions via the Q&A Chat feature. For technical assistance, please visit the Microsoft Teams Support Page. All public comments will be included in the meeting record, which will be made available on www.nwbc.gov under the “2020 Public Meetings” section.

Following the formal public meeting, NWBC will host a `Listening Session.' This session will provide women business owners and entrepreneurs the opportunity to share their challenges and opportunities with NWBC as the Council prepares its policy priorities for Fiscal Year 2021. This session is also open to the public; however, advance notice of attendance is requested. The Eventbrite registration page for the public meeting will include a check box asking if you plan to join the follow-up session. A link to the session will be provided via email reminders and shared during the live public meeting.

Dated: September 2, 2020.
Nicole Nelson,
Committee Management Officer (Acting).

[FR Doc. 2020-19876 Filed 9-8-20; 8:45 am]

BILLING CODE 8026-03-P